DEPARTMENT OF TRANSPORTATION

Federal Aviation Administration

14 CFR Part 39

[Docket No. FAA-2009-0794; Directorate Identifier 2009-NM-035-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for all The Boeing Company Model 747-100, 747-100B, 747-100B SUD, 747-200B, 747-200C, 747-200F, 747-300, 747-400, 747-400D, 747-400F, 747SR, and 747SP series airplanes. The original NPRM proposed a general visual inspection to identify any existing structural repair manual repairs of the upper main sill outer chord of the left and right side main entry door number 1, as applicable; repetitive detailed inspections for cracks in the upper main sill of the door(s); and related investigative and corrective actions, if necessary. The original NPRM also proposed repetitive inspections for airplanes on which a certain repair is done, and corrective actions if necessary. The original NPRM was prompted by reports of cracks in the main entry door number 1 upper main sill outer chord, along the bend radius of the chord on several airplanes. This action revises the original NPRM by reducing certain compliance times. We are proposing this supplemental NPRM to detect and correct cracks in the main entry door number 1 upper main sill outer chord, along the bend radius of the chord, which could result in loss of structural integrity of the airplane. Since these actions impose an additional burden over that proposed in the original NPRM, we are reopening the comment period to allow the public the chance to comment on these proposed changes.

DATES: We must receive comments on this supplemental NPRM by February 13, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Ivan Li, Aerospace Engineer, Airframe Branch, ANM-120S, FAA, Seattle Aircraft Certification Office, 1601 Lind Avenue SW., Renton, Washington 98057-3356; phone: (425) 917-6437; fax: (425) 917-6590; email: ivan.li@faa.gov.

SUPPLEMENTARY INFORMATION:

Comments Invited

We invite you to send any written relevant data, views, or arguments about this proposed AD. Send your comments to an address listed under the ADDRESSES section. Include “Docket No. FAA-2009-0794; Directorate Identifier 2009-NM-035-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a notice of proposed rulemaking (NPRM) (the “original NPRM”) to amend 14 CFR part 39 to include an airworthiness directive (AD) that would apply to all The Boeing Company Model 747-100, 747-100B, 747-100B SUD, 747-200B, 747-200C, 747-200F, 747-300, 747-400, 747-400D, 747-400F, 747SR, and 747SP series airplanes. That original NPRM was published in the Federal Register on September 28, 2009 (74 FR 49351). That original NPRM proposed to require a general visual inspection to identify any existing structural repair manual (SRM) repairs of the upper main sill outer chord of the left and right side main entry door number 1, as applicable; repetitive detailed inspections for cracks in the upper main sill of the door(s); and related investigative and corrective actions, if necessary. The original NPRM also proposed to require repetitive inspections for airplanes on which a certain repair is done, and corrective actions if necessary.

Actions Since Previous NPRM Was Issued

Since we issued the original NPRM (74 FR 49351, September 28, 2009), Boeing has issued Boeing Alert Service Bulletin 747-53A2785, Revision 1, dated July 15, 2010. Among other things, Boeing Alert Service Bulletin 747-53A2785, Revision 1, dated July 15, 2010, makes certain grouping changes for the affected airplanes, and also describes procedures for reducing the compliance threshold and repetitive interval for inspections of Model 747-400 series airplanes modified to the large cargo freighter (LCF) configuration.

Comments

We gave the public the opportunity to participate in developing this AD. We considered the comments received from the commenters.

Request To Change Compliance Times for Certain Airplanes

Boeing requested that we revise paragraphs (g), (h)(1), and (i) of the original NPRM (74 FR 49351, September 28, 2009) to reduce the compliance times and repetitive inspection interval for certain Model 747-400 series airplanes modified to the LCF configuration. Boeing explained that those airplanes operate at higher stress levels, and that cracks may initiate sooner and grow faster. Boeing suggested using the compliance times in paragraph 1.E., “Compliance,” of Boeing Alert Service Bulletin 747-53A2785, Revision 1, dated July 15, 2010, instead of the compliance times listed in paragraph 1.E. “Compliance,” of Boeing Alert Service Bulletin 747-53A2785, dated February 12, 2009, which was referred to in the original NPRM.

We agree to revise this supplemental NPRM as requested by the commenter. The original NPRM (74 FR 49351, September 28, 2009) referred to Boeing Alert Service Bulletin 747-53A2785, dated February 12, 2009, as the appropriate source of service information. We have reviewed Boeing Alert Service Bulletin 747-53A2785, Revision 1, dated July 15, 2010. Among other things, this service information makes certain grouping changes for the affected airplanes. This service information also describes procedures for reducing the compliance threshold and repetitive interval for inspections of Model 747-400 series airplanes modified to the LCF configuration. This service information specifies that the reduced compliance threshold for those airplanes is 10,000 total flight cycles or within 1,500 flight cycles after the date of Boeing Alert Service Bulletin 747-53A2785, Revision 1, dated July 15, 2010 (whichever occurs later). The revised repetitive interval for those airplanes is 3,000 flight cycles.

In addition, Boeing Alert Service Bulletin 747-53A2785, Revision 1, dated July 15, 2010, specifies a compliance threshold for certain Model 747-400, -400D, and -400F series airplanes (i.e., Groups 6 and 7 airplanes) of 12,000 total flight cycles or within 1,500 flight cycles after the date of Boeing Alert Service Bulletin 747-53A2785, dated February 12, 2009, (whichever occurs later). The repetitive interval for those airplanes is 6,000 flight cycles.

In light of this revised service information, we have revised this supplemental NPRM to refer to Boeing Alert Service Bulletin 747-53A2785, Revision 1, dated July 15, 2010. In addition, we have reformatted this supplemental NPRM to specify certain required actions by airplane group.

We have also added paragraph (r) to this supplemental NPRM to give credit for accomplishing the inspections and repairs before the effective date of this AD, as specified in Boeing Alert Service Bulletin 747-53A2785, dated February 12, 2009.

Request To Refer to Service Information Instead of the Drawing

Boeing requested that we revise paragraph (h) of the original NPRM (September 28, 2009 (74 FR 49351)) to refer to “the service bulletin repair drawing reference” instead of “drawing 691U0145.” Boeing explained that they were in the process of revising Boeing Alert Service Bulletin 747-53A2785 to change Drawing 691U0145 into an orderable kit, which means that the repair drawing number will change.

We agree with the commenter's request to remove references to a particular drawing since the number will change. Based on Boeing's comment, we have revised this supplemental NPRM to refer to Boeing Alert Service Bulletin 747-53A2785, Revision 1, dated July 15, 2010, for the outer chord repair.

Requests To Add Acceptable Method of Compliance Information

Boeing requested that paragraph (j) of the original NPRM (September 28, 2009 (74 FR 49351)) (i.e., paragraph (o) of this supplemental NPRM) be revised to add that accomplishment of the inspections required by AD 2009-18-07, Amendment 39-16003 (74 FR 43629, August 27, 2009); or AD 2006-05-02, Amendment 39-14499 (71 FR 10605, March 2, 2006) (as superseded by AD 2010-01-01, Amendment 39-16157 (75 FR 1533, January 12, 2010)); as applicable; is acceptable for compliance with the inspection requirements of paragraphs (h) and (i) of the original NPRM.

Boeing explained that Boeing Alert Service Bulletin 747-53A2785, dated February 12, 2009, states that when the inspections “per the fatigue test ADs 2009-18-07, Amendment 39-16003 (74 FR 43629, August 27, 2009) or 2006-05-02, Amendment 39-14499 (71 FR 10605, March 2, 2006)” are accomplished, the inspections per the original NPRM (September 28, 2009 (74 FR 49351)) and Boeing Alert Service Bulletin 747-53A2785, dated February 12, 2009, are satisfied. Therefore, accomplishment of the inspections required by AD 2009-18-07 or 2006-05-02 (as superseded by AD 2010-01-01, Amendment 39-16157 (75 FR 1533, January 12, 2010)) is acceptable for compliance with the inspection requirements of paragraphs (g), (h), and (i) of the original NPRM. Boeing reasoned that the information should be included in paragraph (j) of the original NPRM.

Boeing also requested that we revise paragraph (j) of the original NPRM (September 28, 2009 (74 FR 49351)) to replace the reference to AD 2005-20-30, Amendment 39-14327 (70 FR 59252, October 12, 2005), with a reference to AD 2009-18-07, Amendment 39-16003 (74 FR 43629, August 27, 2009). Boeing explained that AD 2005-20-30 has been superseded by AD 2009-18-07.

All Nippon Airways (ANA) also requested that paragraph (j) of the original NPRM (September 28, 2009 (74 FR 49351)) be revised to refer to both paragraphs (g) and (h) of the original NPRM to clarify AMOC requirements. ANA explained that paragraph (j) of the original NPRM specifies that accomplishing the inspections required by AD 2005-20-30, Amendment 39-14327 (70 FR 59252, October 12, 2005) (which was superseded by AD 2009-18-07, Amendment 39-16003 (74 FR 43629, August 27, 2009)); or AD 2006-05-02, Amendment 39-14499 (71 FR 10605, March 2, 2006) (which was superseded by AD 2010-01-01, Amendment 39-16157 (75 FR 1533, January 12, 2010)); is an acceptable method of compliance for the inspections required by paragraph (g) of the original NPRM. ANA reasoned further, that paragraph (g) of the original NPRM refers only to the initial inspection, and paragraph (h) of the original NPRM refers to the repetitive inspection.

We agree that accomplishing the detailed inspections required by AD 2009-18-07, Amendment 39-16003 (74 FR 43629, August 27, 2009); or AD 2010-01-01, Amendment 39-16157 (75 FR 1533, January 12, 2010); as applicable; is acceptable for compliance with the detailed inspection requirements of paragraphs (g), (h), and (i) of this supplemental NPRM. Therefore, in paragraph (o) of this supplemental NPRM (which corresponds to paragraph (j) of the original NPRM (74 FR 49351, September 28, 2009)), we have referred to paragraphs (g), (h), (l), and (m), since the actions specified by paragraph (o) of this supplemental NPRM are acceptable for compliance with those paragraphs.

We also agree to revise paragraph (o) of this supplemental NPRM to reference to current AD 2009-18-07, Amendment 39-16003 (74 FR 43629, August 27, 2009); and AD 2010-01-01, Amendment 39-16157 (75 FR 1533, January 12, 2010). In addition, we have referenced the current ADs in paragraph (b) of this supplemental NPRM, since those ADs are affected by this supplemental NPRM.

Request To Include Latest Revision of Service Information

Boeing requested that we revise paragraph (j) of the original NPRM (September 28, 2009 (74 FR 49351)) (i.e., paragraph (o) of this supplemental NPRM), to refer to Boeing Alert Service Bulletin 747-53A2349, Revision 3, dated October 2, 2008, instead of Revision 2, dated April 3, 2003, of that service bulletin.

We agree that this supplemental NPRM should refer to the latest service information. We have revised paragraph (o) of this supplemental NPRM to refer to Boeing Alert Service Bulletin 747-53A2349, Revision 3, dated October 2, 2008.

Request To Revise Boeing Delegated Option Authorization (DOA) to Boeing Organization Designation Authorization (ODA)

Boeing requested that we revise any occurrence of the phrase “Boeing DOA” in the original NPRM (September 28, 2009 (74 FR 49351)) to “Boeing ODA” in this supplemental NPRM. Boeing explained that Boeing Commercial Airplanes has changed from “DOA” to “ODA.”

We agree to revise “Boeing DOA” to “Boeing ODA” in this supplemental NPRM. Boeing Commercial Airplanes has received an ODA, which replaces their previous designation as a DOA holder. We have revised paragraph (s) of this supplemental NPRM to delegate the authority to approve an AMOC for any repair required by this AD to the Boeing Commercial ODA.

Clarification of “PART 3—REPAIR”

The installation of a new outer chord repair specified in Section “PART 3—REPAIR” of Boeing Alert Service Bulletin 747-53A2785, Revision 1, dated July 15, 2010, includes replacing any existing SRM outer chord repair with a new repair, repairing cracked outer chords, replacing cracked frame attach angles or clips, and contacting Boeing for repair instructions and doing the repair for main upper sill web cracks.

Clarification of Service Bulletin

The “detailed inspection of the upper main sill web and frame attachment angles (or clips) for crack(s)” in the second column, sixth row down, on page 26 of Boeing Alert Service Bulletin 747-53A2785, Revision 1, dated July 15, 2010, is not in the Accomplishment Instructions of that document. PART 3—REPAIR of the Accomplishment Instructions in Boeing Alert Service Bulletin 747-53A2785, Revision 1, dated July 15, 2010, is correct; there is no detailed inspection necessary as part of the repair. We note that a detailed inspection of the upper main sill (including the sill web and frame attachment angles (or clips) for cracks) is already required in PART 2—INSPECTION of the Accomplishment Instructions of Boeing Alert Service Bulletin 747-53A2785, Revision 1, dated July 15, 2010.

FAA's Determination

We are proposing this supplemental NPRM because we evaluated all pertinent information and determined an unsafe condition exists and is likely to exist or develop on other products of these same type designs. Certain changes described above expand the scope of the original NPRM (September 28, 2009 (74 FR 49351)). As a result, we have determined that it is necessary to reopen the comment period to provide additional opportunity for the public to comment on this supplemental NPRM.

Proposed Requirements of the Supplemental NPRM

This supplemental NPRM would require accomplishing the actions specified in the service information described previously, except as discussed under “Differences Between the Supplemental NPRM and the Service Information.”

Differences Between the Supplemental NPRM and the Service Information

Boeing Alert Service Bulletin 747-53A2785, Revision 1, dated July 15, 2010, specifies to contact the manufacturer for instructions on how to repair certain conditions, but this proposed AD would require repairing those conditions in one of the following ways:

• Using a method that we approve; or

• Using data that meet the certification basis of the airplane, and that have been approved by an Authorized Representative for the Boeing Commercial Airplanes ODA whom we have authorized to make those findings.

Explanation of Change to Costs of Compliance

Since issuance of the original NPRM (September 28, 2009 (74 FR 49351)), we have increased the labor rate used in the Costs of Compliance from $80 per work-hour to $85 per work-hour. The Costs of Compliance information, below, reflects this increase in the specified labor rate.

Costs of Compliance

We estimate that this proposed AD affects 165 airplanes of U.S. registry.

We estimate the following costs to comply with this proposed AD:

Estimated Costs
Action | Work hours | Parts cost | Cost per product | Number of U.S.-registered airplanes | Cost on U.S. operators
Inspection (Groups 1, 3, 5-6) | 6 work-hours × $85 per hour = $510 | $0 | $510 per inspection cycle | 86 | $43,860 per inspection cycle.
Inspection (Groups 2, 4, 7) | 3 work-hours × $85 per hour = $255 | $0 | $255 per inspection cycle | 79 | $20,145 per inspection cycle.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2009-0794; Directorate Identifier 2009-NM-035-AD.

(a) Comments Due Date

We must receive comments by February 13, 2012.

(b) Affected ADs

AD 2009-18-07, Amendment 39-16003 (74 FR 43629, August 27, 2009); and AD 2010-01-01, Amendment 39-16157 (75 FR 1533, January 12, 2010); affect this AD.

(c) Applicability

This AD applies to all The Boeing Company Model 747-100, 747-100B, 747-100B SUD, 747-200B, 747-200C, 747-200F, 747-300, 747-400, 747-400D, 747-400F, 747SR, and 747SP series airplanes; certificated in any category.

(d) Subject

Air Transport Association (ATA) of America Code 53: Fuselage.

(e) Unsafe Condition

This AD was prompted by reports of cracks in the main entry door number 1 upper main sill outer chord, along the bend radius of the chord on several airplanes. We are issuing this AD to detect and correct such cracks, which could result in loss of structural integrity of the airplane.

(f) Compliance

You are responsible for having the actions required by this AD performed within the compliance times specified, unless the actions have already been done.

(g) Inspection for Group 1 Through 4 Airplanes

For Group 1 through 4 airplanes as identified in Boeing Alert Service Bulletin 747-53A2785, Revision 1, dated July 15, 2010: At the applicable time specified in paragraph 1.E., “Compliance,” of Boeing Alert Service Bulletin 747-53A2785, Revision 1, dated July 15, 2010, except as provided by paragraphs (p) and (q) of this AD, do a one-time general visual inspection to identify any existing structural repair manual (SRM) repairs of the upper main sill outer chord of the left and right main entry door 1, as applicable. Remove any existing SRM outer chord repair that is found, before further flight, in accordance with the Accomplishment Instructions of Boeing Alert Service Bulletin 747-53A2785, Revision 1, dated July 15, 2010. In addition, after doing the one-time general visual inspection to identify any existing SRM repairs of the upper main sill outer chord of the left and right main entry door 1, before further flight, do a detailed inspection for cracks of the main upper sill outer chord, web, and frame attachment angles (or clips) of the left and right main entry door 1, as applicable. Do all actions in accordance with Part 2 of the Accomplishment Instructions of Boeing Alert Service Bulletin 747-53A2785, Revision 1, dated July 15, 2010. If no crack and no existing SRM outer chord repair is found during any inspection required by this paragraph, at the applicable time specified in paragraph 1.E., “Compliance,” of Boeing Alert Service Bulletin 747-53A2785, Revision 1, dated July 15, 2010, except as provided by paragraphs (p) and (q) of this AD, repeat thereafter the detailed inspection for cracks, at intervals specified in paragraph 1.E., “Compliance,” of Boeing Alert Service Bulletin 747-53A2785, Revision 1, dated July 15, 2010, until the outer chord repair specified in Part 3 of the Accomplishment Instructions of Boeing Alert Service Bulletin 747-53A2785, Revision 1, dated July 15, 2010, is installed.

(h) Inspection for Group 5 Through 7 Airplanes

For Group 5 through 7 airplanes as identified in Boeing Alert Service Bulletin 747-53A2785, Revision 1, dated July 15, 2010: At the applicable time specified in paragraph 1.E., “Compliance,” of Boeing Alert Service Bulletin 747-53A2785, Revision 1, dated July 15, 2010, except as provided by paragraphs (p) and (q) of this AD, do a detailed inspection for cracks of the main upper sill outer chord, web, and frame attachment angles (or clips) of the left and right main entry door 1, as applicable, in accordance with Part 2 of the Accomplishment Instructions of Boeing Alert Service Bulletin 747-53A2785, Revision 1, dated July 15, 2010. If no crack is found during any inspection required by this paragraph, at the applicable time specified in paragraph 1.E., “Compliance,” of Boeing Alert Service Bulletin 747-53A2785, Revision 1, dated July 15, 2010, except as provided by paragraph (p) and (q) of this AD, repeat thereafter the detailed inspection for cracks, at intervals specified in paragraph 1.E., “Compliance,” of Boeing Alert Service Bulletin 747-53A2785, Revision 1, dated July 15, 2010, until the outer chord repair specified in Part 3 of the Accomplishment Instructions of Boeing Alert Service Bulletin 747-53A2785, Revision 1, dated July 15, 2010, is installed.

(i) Repair for Group 1 Through 4 Airplanes

For Group 1 through 4 airplanes as identified in Boeing Alert Service Bulletin 747-53A2785, Revision 1, dated July 15, 2010: If an existing SRM outer chord repair is found and removed during the inspection required by paragraph (g) of this AD, before further flight, install a new outer chord repair in accordance with Part 3 of the Accomplishment Instructions of Boeing Alert Service Bulletin 747-53A2785, Revision 1, dated July 15, 2010.

(j) Repair of Outer Chord Crack or Cracked Frame Attachment Angles (or Clips)

If any outer chord crack or cracked frame attachment angles (or clips) is found during any inspection required by paragraph (g) or (h) of this AD, before further flight, repair, in accordance with Part 3 of the Accomplishment Instructions of Boeing Alert Service Bulletin 747-53A2785, Revision 1, dated July 15, 2010.

(k) Repair of Upper Main Sill Web Crack

If any upper main sill web crack is found during any inspection required by paragraph (g) or (h) of this AD, before further flight, repair the crack using a method approved in accordance with the procedures specified in paragraph (s) of this AD.

(l) Inspection

If any upper main sill web or frame attachment angles (or clips) have been repaired as specified in PART 3—REPAIR of the Accomplishment Instructions of Boeing Alert Service Bulletin 747-53A2785, Revision 1, dated July 15, 2010, and the outer chord repair specified in PART 3—REPAIR of the Accomplishment Instructions of Boeing Alert Service Bulletin 747-53A2785, Revision 1, dated July 15, 2010, has not been installed, at the applicable time specified in paragraph 1.E., “Compliance,” of Boeing Alert Service Bulletin 747-53A2785, Revision 1, dated July 15, 2010, except as provided by paragraphs (p) and (q) of this AD, do a detailed inspection for cracks as specified in paragraph (g) or (h) of this AD, as applicable, in accordance with the Accomplishment Instructions of Boeing Alert Service Bulletin 747-53A2785, Revision 1, dated July 15, 2010. Repeat the inspections in paragraph (g) or (h) of this AD, as applicable, thereafter at intervals specified in paragraph 1.E., “Compliance,” of Boeing Alert Service Bulletin 747-53A2785, Revision 1, dated July 15, 2010.

(m) Post-Repair Inspection

For airplanes having the outer chord repair installed as specified in PART 3—REPAIR of the Accomplishment Instructions of Boeing Alert Service Bulletin 747-53A2785, Revision 1, dated July 15, 2010: At the applicable time specified in paragraph 1.E., “Compliance,” of Boeing Alert Service Bulletin 747-53A2785, Revision 1, dated July 15, 2010, except as provided by paragraphs (p) and (q) of this AD, do a detailed inspection for cracks of the left and right main entry door 1 upper sill, as applicable, with the outer chord repair installed, in accordance with PART 5—AFTER-REPAIR INSPECTION of the Accomplishment Instructions of Boeing Alert Service Bulletin 747-53A2785, Revision 1, dated July 15, 2010. Repeat the inspection for cracks thereafter at the applicable intervals specified in paragraph 1.E., “Compliance,” of Boeing Alert Service Bulletin 747-53A2785, Revision 1, dated July 15, 2010.

(n) Repair of Any Crack Found From Post-Repair Inspection

Repair any crack found during any inspection required by paragraph (m) of this AD, before further flight, using a method approved in accordance with the procedures specified in paragraph (s) of this AD.

(o) Credit for Inspections Required by AD 2009-18-07, Amendment 39-16003 (74 FR 43629, August 27, 2009), or AD 2010-01-01, Amendment 39-16157 (75 FR 1533, January 12, 2010)

Accomplishing the main entry door 1 cutout detailed inspection required by AD 2009-18-07, Amendment 39-16003 (74 FR 43629, August 27, 2009); or AD 2010-01-01, Amendment 39-16157 (75 FR 1533, January 12, 2010); as applicable; before the effective date of this AD is acceptable for compliance with the detailed inspection requirements of paragraphs (g), (h), (l), and (m) of this AD only. The one-time general visual inspection of paragraph (g) of this AD is still required.

Note 1: For all applicable airplanes that have accumulated 22,000 total flight cycles or more after October 1, 2009 (the effective date of AD 2009-18-07, Amendment 39-16003 (74 FR 43629, August 27, 2009)), AD 2009-18-07 requires accomplishing the main entry door 1 cutout detailed inspection in accordance with Boeing Alert Service Bulletin 747-53A2349, Revision 3, dated October 2, 2008. For all applicable airplanes (except 747-400 series airplanes modified to the 747-400 large cargo freighter (LCF) configuration) that have accumulated 22,000 total flight cycles or more after February 16, 2010 (the effective date of AD 2010-01-01, Amendment 39-16157 (75 FR 1533, January 12, 2010)), AD 2010-01-01 requires accomplishing the main entry door 1 cutout detailed inspection in accordance with Boeing Alert Service Bulletin 747-53A2500, Revision 1, dated September 25, 2008. For Model 747-400 series airplanes modified to the Model 747-400 LCF configuration and having accumulated 15,000 total flight cycles or more as of February 16, 2010, AD 2010-01-01 requires accomplishing the inspections in accordance with Boeing Alert Service Bulletin 747-53A2500, Revision 1, dated September 25, 2008.

(p) Exception to the Service Information

Where paragraph 1.E., “Compliance,” of Boeing Alert Service Bulletin 747-53A2785, Revision 1, dated July 15, 2010, specifies a compliance time “after the original issue date of this service bulletin,” or “after the date on Revision 1 of this service bulletin,” this AD requires compliance within the specified compliance time after the effective date of this AD.

(q) Exception to Compliance Time

Where 1.E., “Compliance,” of Boeing Alert Service Bulletin 747-53A2785, Revision 1, dated July 15, 2010, specifies a compliance time of “within” a specified “total flight-cycles,” this AD requires compliance “before the accumulation” of the specified total flight cycles.

(r) Credit for Actions Accomplished in Accordance With Previous Service Information

Doing the inspections and repairs, in accordance with Boeing Alert Service Bulletin 747-53A2785, dated February 12, 2009, before the effective date of this AD, is acceptable for compliance with the corresponding inspections and repairs required by paragraphs (g), (h), (i), (j), (k), (l), (m), and (n) of this AD.

(s) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD

(t) Related Information

(1) For more information about this AD, contact Ivan Li, Aerospace Engineer, Airframe Branch, ANM-120S, FAA, Seattle Aircraft Certification Office, 1601 Lind Avenue SW., Renton, Washington 98057-3356; telephone (425) 917-6437; fax (425) 917-6590; email: ivan.li@faa.gov.

(2) For service information identified in this AD, contact Boeing Commercial Airplanes, Attention: Data & Services Management, P. O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Issued in Renton, Washington, on December 22, 2011.
Kalene C. Yanamura,
Acting Manager, Transport Airplane Directorate, Aircraft Certification Service.

[FR Doc. 2011-33376 Filed 12-28-11; 8:45 am]

BILLING CODE 4910-13-P